DEPARTMENT OF THE INTERIOR

Fish and Wildlife Service

Availability of an Environmental Assessment, Preliminary Finding of No Significant Impact, and Receipt of an Application for an Incidental Take Permit by The St. Joe Company for Development of Two Residential/Commercial Projects on its Lands in Walton County, Florida

AGENCY: Fish and Wildlife Service.

ACTION: Notice.

SUMMARY: The St. Joe Company (Applicant) seeks an incidental take permit (ITP) from the Fish and Wildlife Service (Service) pursuant to Section 10(a)(1)(B) of the Endangered Species Act of 1973 (16 U.S.C. 1531 et seq.), as amended. The permit would apply to two individual land holdings of the Applicant in Walton County, Florida. At the first site, The Villages at Seagrove, south parcel, the applicant has a total of 16.4 acres of designated critical habitat for the federally endangered Choctawhatchee beach mouse (Peromyscus polionotus allophrys) that is currently occupied by the species. The other site, Camp Creek, has habitat suitable for Choctawhatchee beach mice but is currently unoccupied by beach mice. This ITP would authorize take of 4.65 acres of designated Choctawhatchee beach mouse critical habitat, 0.5 acre of suitable but currently unoccupied habitat, and secondary impacts related to human occupancy and use of the two developments. The Service has evaluated the proposed project plans and determined that, with the incorporation and implementation of appropriate conservation measures, the projects would not likely adversely affect the threatened loggerhead (Caretta caretta), endangered green (Chelonia mydas), and endangered leatherback (Dermochelys coriacea) sea turtles.

The Service also announces the availability of the draft EA and Plan for the incidental take application. Copies of the draft EA and/or Plan may be obtained by making a request to the Regional Office (see ADDRESSES). Requests must be in writing to be processed. This notice also advises the public that the Service has made a preliminary determination that issuing the Permit is not a major Federal action significantly affecting the quality of the human environment within the meaning of Section 102(2)(C) of the National Environmental Policy Act of 1969, as amended (NEPA). The preliminary Finding of No Significant Impact (FONSI) is based on information contained in the EA and Plan. The final determination will be made no sooner than 30 days from the date of this notice. This notice is provided pursuant to Section 10 of the Endangered Species Act and NEPA regulations (40 CFR 1506.6).

The Service specifically requests information, views, and opinions from the public via this Notice on the Federal action, including the identification of any other aspects of the human environment not already identified in the Service's EA. Further, the Service specifically solicits information regarding the adequacy of the Plan as measured against the Service's Permit issuance criteria found in 50 CFR Parts 13 and 17.

If you wish to comment, you may submit comments by any one of several methods. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application, EA, and HCP should be sent to the Service's Regional Office (see ADDRESSES) and should be received on or before March 17, 2000.

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Panama City Field Office, 1612 June Avenue, Panama City, Florida 32405. Written data or comments concerning the application, EA, or HCP should be submitted to the Regional Office. Requests for the documentation must be in writing to be processed. Please reference permit number TE020830-0 in such comments, or in requests of the documents discussed herein.

FOR FURTHER INFORMATION CONTACT: Mr. David Dell, Regional Permit Coordinator, (see ADDRESSES above), telephone: 404/679-7313; or Ms. Lorna Patrick, Fish and Wildlife Biologist, Panama City Field Office, (see ADDRESSES above), telephone 850/769-0552.

SUPPLEMENTARY INFORMATION: The Choctawhatchee beach mouse is one of five subspecies of the oldfield mouse that inhabit coastal dune communities along the northern Gulf Coast of Florida and Alabama. The Choctawhatchee beach mouse was listed along with the Perdido Key (Peromyscus polionotus trissyllepsis) and Alabama beach mice (Peromyscus polionotus ammobates) as an endangered species under the federal Endangered Species Act in 1985 (50 FR 23872, June 6, 1985). It is also listed as an endangered species by the State of Florida. Loss of habitat from coastal development is considered to be the main factor for the decline of beach mice.

Choctawhatchee beach mice, like other beach mice, are nocturnal and forage for food throughout the dune system. Optimal Choctawhatchee beach mouse habitat is currently thought to comprise a heterogeneous mix of interconnected habitats including primary, secondary, scrub dunes and interdunal areas. They feed primarily on seeds and fruits of bluestem Schizachrium maritimum, sea oats Uniola paniculata, and evening primrose Oenothera humifusa; however, insects are also an important component of their diet.

Critical habitat was designated for the Choctawhatchee beach mouse at the time of listing (50 CFR § 17.95). Designated critical habitat for the Choctawhatchee beach mouse consists of four separate areas in Walton and Bay counties, Florida, totaling 819 acres along 13.2 miles of Gulf of Mexico shoreline. These areas are: (1) Shell Island in Bay County, comprising 332 acres along 7.7 miles jointly managed by the Florida Department of Environmental Protection (FDEP), Florida Park Service as part of St. Andrews State Recreation Area (SRA) (205 acres—includes private inholdings), and by the U.S. Air Force, Tyndall Air Force Base (127 acres); (2) St. Andrews SRA, mainland, west of the St. Andrew Bay inlet, 60 acres along 1.1 miles; (3) Grayton Beach State Recreation Area (SRA) main unit, managed by FDEP, Florida Park Service in Walton County consists of 67 acres along 1.7 miles; and (4) Topsail Hill State Preserve managed by FDEP, Florida Park Service in Walton County, Florida, has 200 acres along 2.7 miles. Critical habitat extends onto private lands off the eastern boundary of Grayton Beach SRA, 31.4 acres (St. Joe Company, south parcel and development of Seaside) and adjacent to Topsail Hill State Preserve, west boundary, 24 acres (Four-Mile Village/Sierra Club/Coffeen Preserve) and east boundary, 9.63 acres (Stallworth Preserve and Hazelton property). Critical habitat in all areas extends 500 ft landward from the mean high tide line. Public lands account for 91 percent of designated critical habitat.

The historic range of the Choctawhatchee beach mouse extended from the East Pass of Choctawhatchee Bay in Okaloosa County east through Walton County to Shell Island in Bay County. Approximately 99.8 percent of the lands currently known to be occupied by Choctawhatchee beach mice are public lands. For the Choctawhatchee beach mouse, three “populations” are currently in existence: Topsail Hill State Preserve (and adjacent eastern and western private lands), Shell Island (includes Tyndall Air Force Base and St. Andrew SRA-with private inholdings), and Grayton Beach SRA, main unit (and adjacent eastern private lands). Approximately 92 percent of habitat “available” (large enough to support a population or adjacent to a population) for Choctawhatchee beach mouse are public lands. A current conservative total population estimate would be in the range from 500 to 700 Choctawhatchee beach mice. Private lands within or adjacent to designated critical habitat provide support for the recovery of the Choctawhatchee beach mouse. These lands are available for population dispersal and food source during and after severe weather events.

The Applicant, The St. Joe Company, proposes to implement conservation measures to benefit the Choctawhatchee beach mouse for both their proposed developments. Avoidance, minimization, and on-site and off-site mitigation include the following:

1. A monitoring program for Choctawhatchee beach mice on The Villages at Seagrove, south parcel will be implemented for 5 years.

2. Restoration of the dune system at The Villages at Seagrove, south parcel. To restore the dunes: (a) Sand will be brought in and placed along the base of the primary dunes; (b) sand fence will be installed; (c) sea oats and panic grass will be planted in the primary dune restoration area; (d) the historic grade will be reestablished and sea oats and palmetto-oak scrub plant species will be planted as appropriate; (e) restoration areas will be protected from pedestrian traffic; and (f) the restoration work will be maintained under a prescriptive management program.

3. Protection, management, and maintenance of remaining beach mouse habitat at both developments.

4. The Applicant will provide consent to allow the Service or FDEP to reintroduce Choctawhatchee beach mice onto the Camp Creek site in habitat suitable for Beach mice but currently unoccupied.

5. Covenants and restrictions will be placed on both entire developments.

6. All covenants and restrictions shall be further stipulated that no changes shall be made that would cause noncompliance with the requirements of the ITP.

7. Protection, management, and maintenance of 80.4 acres (32.5 hectares) of beach mouse habitat at the Camp Creek site.

8. Installation of split rail or similar fence between the Camp Creek site and State Park property to control unauthorized pedestrian access to dune habitats at both areas.

9. All landscaping will be done with native vegetation at both developments.

10. No invasive or exotic species will be planted at either development and will be removed whenever found at both developments.

11. Sea turtle compatible lighting will be included in the project design for both projects.

12. Control of litter and trash including the use of wildlife-proof trash receptacles will be installed and maintained at both developments.

13. Control of non-native predator species such as coyote, red fox, house mice, and feral and free-ranging domestic pets (cats and dogs) will be implemented at both developments. The use of pesticides will be limited to those that will not impact the Choctawhatchee beach mouse.

14. All domestic pets will be required to be on a leash when outside at both developments.

15. Recreation and beach equipment (beach chairs, umbrellas, and surf boards, etc.) will be removed from the beach and stored in a centralized location at night during the sea turtle nesting season (May 1 through October 31) at both developments.

16. Access to the beach from both developments will be controlled and directed on the dune walkovers. Fences, signs, and information kiosks will be used to direct pedestrian traffic along the walkovers and provide information on the sensitivity of the dune habitat and associated coastal plants and animals at both developments.

17. During construction, impacts will be avoided or minimized at both sites by: (a) Habitat protected by placing sediment barriers and flagging to restrict access and avoid impacts; (b) top-down construction of dune walkovers and boardwalks over primary, secondary, and scrub dune habitats; (c) storage of materials at appropriate staging sites and outside or adjacent to sensitive habitats; (d) construction site to be kept clean and free of debris in areas of sensitive habitats; (e) limits of disturbance from construction grading will be indicated on all building plans and a buffer established and revegetated with native species after construction, if needed; (f) signs indicating the habitat protection and prohibition of disturbance including penalty for violation will be posted at 100 foot intervals; (g) periodic inspections will be performed to verify that the protection is being implemented correctly; and (h) these requirements will be in the general contractor's contract.

18. An environmental education program will be developed for the residents and visitors of the development at both sites. The program will emphasize the coastal area and the listed species that occur there. The program will include the development of a brochure, kiosk, and appropriate signs.

19. Enforcement of construction boundary violations (bulldozer activity through a fence, indirect damage, such as slope failure in the construction area across the construction boundary, erosion, or unauthorized vehicle activity) at both sites by: (a) Notification of the Service; (b) termination of work; (c) preparation and submission of a damage report; (d) restoration of damaged area; and (e) return to work once these steps have been completed. Enforcement action will be taken against a property owner regardless of the actual agent of the damage in order to accelerate abatement and remediation and because there is a direct link between the property owner and the ITP.

20. Annual reports submitted to the Fish and Wildlife Service for the duration of the ITP (30 years).

21. Assurance for legal, financial, and future management responsibilities for implementing the HCP and ITP are to be met by property assessments on individual property owners. The home owners' association will administer the program. After the issuance of the ITP the Applicant will produce legally binding covenants and restrictions to implement the HCP and ITP. The Applicant will cover the cost of the monitoring program and the annual reports until the homeowner's association is established and assumes the administrative and funding responsibilities of the program.

22. To address the possibility of unforeseen circumstances, the Applicant will work with the Service to determine and resolve issues or concerns as appropriate. If either the Applicant or the Service becomes aware of situations that could cause unforeseen incidental take they will contact the other to address issues as needed.

The EA considers the environmental consequences of three alternatives.

Alternative A

No Action. This alternative would avoid the taking of any listed species at either development area. Thus, the no action alternative would have no direct impact on listed species in the area south of Highway 30A. However, the absence of a management plan for the site could result in adverse indirect impacts to and subsequent loss of listed species from the critical habitat area as a result of adjacent development and associated problems of unauthorized human access and disturbance. Adjacent development will pose problems such as feral and free-ranging cats, house mice, and other animals which may prey upon or compete with the Choctawhatchee beach mouse on the project area as well as unauthorized beach access on the property which has degraded the dune habitats. Without management, preservation of the critical habitat area alone is not likely to protect listed species such as the Choctawhatchee beach mouse and other species such as nesting sea turtles, and shorebirds. Under the no action alternative, no effort would be made by the Applicant to conserve, restore, or enhance habitat for the Choctawhatchee beach mouse or other listed species in the coastal portion of the development.

Alternative B

At both developments the Applicant has committed to implement conservation measures including controlled beach access, dune habitat restoration and protection, control of Choctawhatchee beach mouse predators and competitors, monitoring of the onsite beach mouse population, sea turtle compatible lighting and beach management, trash and refuse control. In addition, the Applicant provided consent for the Service or Florida Department of Environmental Protection to reintroduce Choctawhatchee beach mice onto the second property to be developed that contains 80.4 acres of habitat suitable for beach mice.

The Applicant in concept has provided for the necessary conservation measures and mitigation to meet the biological goals of the incidental take permit issuance. However, because (1) additional conservation measures are needed to minimize impacts and (2) because of uncertain annual funding for both our agency and the Florida Department of Environmental Protection, assurance can not be provided that a new population could be established in a timely fashion. Thus, the Service's biological goal of minimizing impacts and increasing numbers of the Choctawhatchee beach mouse would not be met.

Alternative C

(Proposed Action)

At both developments the Applicant has committed to implement conservation measures including controlled beach access, dune habitat restoration and protection, control of Choctawhatchee beach mouse predators and competitors, monitoring of the onsite beach mouse population, sea turtle compatible lighting and beach management, trash and refuse control. In addition, the Applicant committed to funding the reintroduction of Choctawhatchee beach mice onto the second property that contains 80.4 acres of habitat suitable for beach mice. In addition, the Applicant has committed to incorporating additional conservation measures that further reduce impacts to the Choctawhatchee beach mouse. These measures include the following:

1. The Applicant shall be responsible for conducting or funding monitoring of the Choctawhatchee beach mouse population at The Villages at Seagrove, south parcel for the life of the ITP (30 years) unless approved otherwise by the Service.

2. At least one week prior to the land clearing on The Villages at Seagrove, south parcel, trapping within the 4.65 acres will be conducted by the Applicant to capture Choctawhatchee beach mouse. The Choctawhatchee beach mouse will be relocated to the Grayton Beach State Recreation Area main unit. The Applicant will be responsible for obtaining all applicable state and federal permission or permits to conduct this activity.

3. The Applicant will conduct or fund reintroduction of the Camp Creek project site within one year of issuance of a plan provided by the Service. Choctawhatchee beach mouse from Topsail Hill State Preserve will be the source of Choctawhatchee beach mouse for the reintroduction provided adequate numbers exist. Monitoring of the reintroduced population shall be completed by the Applicant for 5 years with consent for the Service, FDEP, or Florida Fish and Wildlife Conservation Commission (FWC) to continue the population supplementation and monitoring for the life of the ITP.

4. The following changes or additions to the dune restoration plan will be made: (a) All vegetation planting shall be completed by May 1; (b) irrigation of planted dune vegetation will be by backpack only; (c) all dune restoration material will meet State of Florida requirements for beach quality material; and (d) all fence will be installed according to State of Florida sea turtle compatible requirements.

5. The Walton County beach access shall consist, at a minimum, of one dune walkover constructed to allow natural formation of the primary, secondary, and scrub dunes. The walkover shall be completed by the time development of The Villages at Seagrove, south parcel site is also completed.

6. All landscaping within designated critical habitat of the Choctawhatchee beach mouse on The Villages at Seagrove, south parcel shall be in accordance with the Walton County Coastal Dune Vegetation list to be included in the ITP.

7. All trash receptacles on The Villages at Seagrove, south parcel (including the Walton County beach access) and Camp Creek shall be permanent, with secure lids, and predator proof.

8. No lights shall be permitted seaward of the Coastal Construction Control Line (CCCL) at both developments.

9. All structure and associated facility lighting on the seaward and western portion of The Villages at Seagrove, south parcel and Camp Creek site shall be kept to a minimum for security and safety purposes only and be sea turtle compatible. No lighting in these areas shall be used for decorative landscaping purposes. This will be handled under an adaptive management approach with the Service and the Applicant working together to finalize the lighting plans.

10. All construction on the beach for both developments will be conducted outside the turtle nesting season (May 1 through October 31) or in accordance with a CCCL permit issued by the State of Florida.

11. All covenants and restrictions will be further stipulated that no changes shall be made that would cause noncompliance with the requirements of the ITP.

Therefore, the biological goal for issuing the ITP has been met by providing a net conservation benefit for the Choctawhatchee beach mouse through: (1) Minimization of onsite impacts by siting of structures and implementation of conservation measures at both developments; (2) maintenance of a continuum of critical habitat (primary dune, oak scrub, and palmetto scrub) within and contiguous with the adjacent public and private lands; and (3) increasing the number of Choctawhatchee beach mice.

As stated above, the Service has made a preliminary determination that the issuance of the ITP is not a major Federal action significantly affecting the quality of the human environment within the meaning of Section 102(2)(C) of NEPA. This preliminary information may be revised due to public comment received in response to this notice and is based on information contained in the EA and HCP. An excerpt from the EA reflecting the Service's finding on the application is provided below:

Based on the analysis conducted by the Service, it has been determined that:

1. Issuance of an ITP will not appreciably reduce the likelihood of survival and recovery of the affected species in the wild.

2. Issuance of an ITP will not appreciably diminish the value of critical habitat for both the survival and recovery of the species

3. This HCP contains provisions which sufficiently minimize and mitigate the impacts to the extent practicable.

4. Issuance of an ITP would not have significant effects on the human environment in the project areas.

5. The proposed take is incidental to an otherwise lawful activity.

6. Adequate funding will be provided to implement the measures proposed in the submitted HCP.

7. No adverse effects to historic sites will occur because of the requirement to: “At the Camp Creek project area, the active beach dune areas in which sites 8WL65 and 8WL105 are located will be left in their natural state with the exception of dune walkover/boardwalk access to the beach. Archaeological monitoring shall be employed during any dune walkover/boardwalk construction should such occur in or near the recorded site areas.”

The Service will also evaluate whether the issuance of a Section 10(a)(1)(B) ITP complies with Section 7 of the Endangered Species Act by conducting an intra-Service Section 7 consultation. The results of the biological opinion, in combination with the above findings, will be used in the final analysis to determine whether or not to issue the ITP.

Judy L. Jones,
Acting Regional Director.

[FR Doc. 00-3606 Filed 2-15-00; 8:45 am]

BILLING CODE 4310-55-P